DEPARTMENT OF HOUSING AND URBAN DEVELOPMENT

[Docket No. FR-4649-N-20]

Notice of Proposed Information Collection: Comment Request; HOME Investment Partnership Program

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: December 10, 2001.

ADDRESSES: Interested persons are invited to submit comments regarding this proposal. Comments should refer to the proposal by name and/or OMB Control Number and should be sent to: Ms. Shelia Jones, Reports Liaison Officer, Office of the Assistant Secretary for Community Planning and Development, Department of Housing and Urban Development, 451-7th Street, SW, Room 7230, Washington, DC 20410.

FOR FURTHER INFORMATION CONTACT: Virginia Sardone, at (202) 708-2470 (This is not a toll-free number). A telecommunications device for hearing-and speech-impaired persons (TTY) is available at 1-800-977-8229 (Federal Information Relay Service).

SUPPLEMENTARY INFORMATION: The Department will submit the proposed information collection to OMB for review, as required by the Paperwork Reduction Act of 1995 (44 U.S.C. Chapter 35, as amended).

The Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submission of responses.

The Department of Housing and Urban Development (HUD) will submit to OMB the information collection requirements for the HOME Program, previously approved under OMB Control Numbers 2506-0171.

The HOME Investment Partnerships Act (Title II of the Cranston-Gonzalez National Affordable Housing Act) was signed into law on November 28, 1990 (Pub. L. 101-625) and created the HOME Program to expand the supply of affordable housing. Interim regulations were first published for the program on December 16, 1991 and this and subsequent interim rules were codified at 24 CFR part 92. Paperwork requirements for these rules were approved under OMB Control Number 2501-0013. On September 16, 1996, HUD published a final rule for the HOME Program. On November 25, 1998, previous paperwork approvals for the HOME Program were combined under OMB Control Number 2506-0171.

Title of proposal: HOME Investment Partnerships Program.

OMB Control Number, if applicable: 2506-0171.

Description of the need for the information and proposed use: The HOME statute and related authorities impose a significant number of data collection and reporting requirements on the Department and on HOME participating jurisdictions. This information is collected: (1) To assist HOME participating jurisdictions in managing their programs; (2) to track performance of participating jurisdictions in meeting fund commitment and expenditure deadlines; (3) to permit HUD to determine whether each PJ meets the HOME statutory income targeting and affordability requirements; and (4) to permit HUD to determine compliance with other statutory and regulatory program requirements, e.g., requirements relating to match, affirmative marketing, lead-based paint, and displacement and relocation.

The recordkeeping and reporting burden hours for each individual respondent contained herein are largely unchanged from the previous approvals. The most significant change is in the total number of burden hours for both recordkeeping and reporting, brought about by the substantial increase in the number of program participants since the last HOME paperwork submission in 1998. The number of participating jurisdictions has increased from 576 in 1998 to 594 in 2001. During this period, the number of Community Housing Development Organizations increased from 2,732 to 4,171 and the number of State recipients increased from 1,555 to 1,902. Because so many more organizations are currently participating in the HOME Program than were participating in the first years of the program, the total number of burden hours has increased substantially despite the fact that the burden per respondent has dropped slightly.

Another change in the earlier paperwork approval includes the elimination of the HOME Cash and Management Information System (CMIS), replaced by the paperless Integrated Disbursement and Information System (IDIS). Some of the hours of response formerly required by CMIS were transferred into IDIS.

Agency form numbers: HUD-40093; 40107, and 40107-A.

Members of affected public: States, units of general local government, nonprofit organizations.

Estimation of the total annual number of hours to prepare the information collection including number of respondents, frequency of response, and hours of response:

Section affected | Paperwork requirement | Number of respondents | Frequency of response | Hours of response | Annual total
§ 92.61 | Insular Areas Program Description | 4 | 1 | 10 | 40
§ 92.66 | Insular Areas Reallocation | 4 | 1 | 3 | 12
§ 92.101 | Consortia Designation | 36 | 1 | 5 | 180
§ 92.200 | Public-Private Partnership | 594 | 1 | 2 | 1,188
§ 92.201 | State Designation of Local Recipients | 51 | 1 | 1.5 | 76.5
§ 92.201 | Distribution of Assistance | 594 | 1 | 2 | 1,188
§ 92.202 | Site and Neighborhood Standards | 594 | 1 | 2 | 1,188
§ 92.203 | Income Determination | 6,667 | 1 | 2 | 13,334
§ 92.206, 92.216, 92.217, 92.218, 92.250, 92.252, 92.254 | Documentation required by HUD to be included in project file to determine project eligibility | 6,667 | 1 | 5 | 33,335
§ 92.206 | Refinancing | 100 | 1 | 4 | 400
§ 92.251 | Written Property Standards | 6,667 | 1 | 1 | 6,667
§ 92.253 | Tenant Protections | 6,667 | 1 | 5 | 33,335
§ 92.254 | Median Purchase price | 80 | 1 | 5 | 400
§ 92.254 | Alternative to Resale/Recapture Provisions | 100 | 1 | 5 | 500
§ 92.300 | CHDO Identification | 594 | 1 | 2 | 1,188
§ 92.300 | Designation of CHDOs | 480 | 1 | 1.5 | 720
§ 92.300 | CHDO Project Assistance | 594 | 1 | 2 | 1,188
§ 92.303 | Tenant Participation Plan | 4,171 | 1 | 10 | 41,710
§ 92.350 | Equal Opportunity | 6,667 | 1 | 5 | 33,335
§ 92.351 | Affirmative Marketing | 6,667 | 1 | 10 | 66,670
§ 92.353 | Displacement, relocation and acquisition | 6,667 | 1 | 5 | 33,335
§ 92.354 | Labor | 6,667 | 1 | 2.5 | 16,667.5
§ 92.355 | Lead-Based Paint | 6,667 | 1 | 1 | 6,667
§ 92.357 | Debarment and Suspension | 6,667 | 1 | 1 | 6,667
§ 92.501 | Investment Partnership Agreement | 598 | 1 | 1 | 598
§ 92.502 | Homeownership/Rental Set-Up and Completion (IDIS) | 594 | 1 | 16 | 9,504
§ 92.502 | Tenant-Based Rental Assistance Set-Up (IDIS) | 225 | 1 | 5.5 | 1,237.5
§ 92.504 | Written Agreements | 6,667 | 1 | 10 | 66,670
§ 92.509 | Management Reports—Annual Performance Report | 598 | 1 | 2.5 | 1,495
§ 92.509 | Management Reports—FY Match Report | 594 | 1 | 0.75 | 445.5
The total annual estimate of burden hours is 379,941.

Status of the proposed information collection: Public Comment requested by HUD.

Authority: Section 3506 of the Paperwork Reduction Act of 1995, 44 U.S.C. Chapter 35, as amended.

Dated: September 28, 2001.
Roy A. Bernardi,
Assistant Secretary for Community Planning and Development.

[FR Doc. 01-25332 Filed 10-9-01; 8:45 am]

BILLING CODE 4210-29-M